NUCLEAR REGULATORY COMMISSION

Notice Seeking Qualified Candidates for the Advisory Committee on Nuclear Waste

AGENCY: Nuclear Regulatory Commission.

ACTION: Request for resumès.

SUMMARY: Submit resumès to: Ms. Sherry Meador, ACRS/ACNW, Mail Stop T2E-26, U.S. Nuclear Regulatory Commission, Washington, DC 20555-0001.

SUPPLEMENTARY INFORMATION: The Commission established the Advisory Committee on Nuclear Waste (ACNW) to provide independent technical review of and advice on matters related to the management of nuclear waste, including all aspects of nuclear waste disposal facilities, as directed by the Commission. This encompasses activities related to both high- and low-level radioactive waste disposal facilities, including the licensing, operation, and closure of the facilities, rulemakings, and associated regulatory guides and technical positions developed to clarify the intent of NRC's high- and low-level waste regulations. As part of these activities, the ACNW reviews performance assessment evaluations of waste disposal facilities. Committee members are selected from a variety of engineering and scientific disciplines, such as risk assessment, chemistry, mechanical engineering, civil engineering, materials sciences, and the earth sciences. Currently, the Commission is seeking an additional individual with technical expertise in the area of health physics, dose assessment, and consequences modeling to augment the existing expertise of the 4-member committee. Committee members serve a 4 year term with the possibility of reappointment for a total service of 8 years.

Criteria used to evaluate candidates include education and experience, demonstrated skills in nuclear waste management matters, and the ability to solve complex technical problems. The Commission, in selecting its Committee members, considers the need for a specific expertise to accomplish the work expected to be before the ACNW. For this position, the expertise must be directly related to the area of health physics including dose assessment and consequence modeling. Consistent with the requirements of the Federal Advisory Committee Act, the Commission seeks candidates with diverse backgrounds, so that the membership on the Committee will be fairly balanced in terms of the points of view represented and functions to be performed by the Committee.

Candidates for ACNW appointments may be involved in or have financial interests related to NRC-regulated aspects of the nuclear industry. Because conflict-of-interest considerations may restrict the participation of ACNW members in ACNW activities, the degree and nature of any such restriction on an individual's activities as a member will be considered in the selection process. Each qualified candidate's financial interests must be reconciled with applicable Federal and NRC rules and regulations prior to final appointment. This might require divestiture of securities or discontinuance of certain contracts or grants. Information regarding these restrictions will be provided upon request.

A resumè describing the educational and professional background of the candidate, including any special accomplishments and professional references should be provided. Candidates should provide their current address, telephone number, and e-mail address. All candidates will receive careful consideration. Appointment will be made without regard to such factors as race, color, religion, national origin, sex, age, or disabilities. Candidates must be citizens of the United States and be able to devote approximately 50-100 days per year to Committee business. Applications will be accepted until November 16, 2001.

Dated: August 14, 2001.
Andrew L. Bates,
Advisory Committee Management Officer.

[FR Doc. 01-20995 Filed 8-20-01; 8:45 am]

BILLING CODE 7590-01-P